DEPARTMENT OF HEALTH AND HUMAN SERVICES

Centers for Disease Control and Prevention

[60 Day-11-11AN]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Carol E. Walker, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Making Health Care Providers Better Asthma Educators—New—National Center for Environmental Health (NCEH), Centers for Disease Control and Prevention (CDC).

Background and Brief Description

Currently, 16.4 million non-institutionalized adults in the U.S. have asthma. In addition, 7 million children in this country have the disorder. Asthma accounts for 13.3 million health care visits and more than 3,400 deaths per year. Except for a few cases linked to occupational exposures, the causes of asthma remain unknown, and there exists no cure. In the absence of means to eliminate the disorder, treatment to minimize the frequency and intensity of asthmatic attacks is of paramount importance and patients must take action at appropriate times. Several treatment tools are available, including the use of corticosteroids and control of exposure to allergens and irritants. Thus, the education provided by health care providers to asthmatic patients forms a critical link in efforts to control asthma.

Anecdotal evidence suggests that there is substantial variability, in type and amount, in patient education. Some causes of this are suspected: Billing codes for asthma education are not universally present and the degree of health literacy among patients varies and is likely not universally sufficient. Nevertheless, in large part, the factors influencing asthma education by health care providers are unknown. To help address this situation, the Air Pollution and Respiratory Health Branch of CDC wishes to conduct a study to identify barriers to, and facilitators of, asthma education among health care providers. The target audiences for the study are primary care physicians who routinely provide an initial diagnosis of asthma and nurses who routinely provide asthma education to patients. The overall objectives of this study are to explore practices, barriers, and facilitators regarding provisions of control education to people diagnosed with asthma and to explore the practices, barriers, and facilitators to routine development and use of written asthma action plans.

The target audiences for the study are physicians and nurses. Up to eight physicians will be selected for individual 30-minute interviews per city. A total of three cities will be visited.

Data from the nurses will be collected by means of a 60-minute focus group session. Up to four participants will be selected for each focus group, and a total of two focus groups will be held in each city. A total of three cities will be visited.

There is no cost to the physicians and the nurses except their time.

Estimated Annualized Burden Hours
Respondent | Type of data collection | Number of respondents | Number of responses per respondent | Average burden per respondent (in hours) | Total burden (in hours)
Physicians | Interview | 24 | 1 | 0.5 | 12
Nurses | Focus Group | 24 | 1 | 1 | 24
Total |  |  |  |  | 36

Dated: October 29, 2010.
Carol E. Walker,
Acting Reports Clearance Officer, Centers for Disease Control and Prevention.

[FR Doc. 2010-27931 Filed 11-4-10; 8:45 am]

BILLING CODE 4163-18-P